Title 3—

The President

Proclamation 9910 of July 19, 2019

Captive Nations Week, 2019

By the President of the United States of America

A Proclamation

The United States has always been a source of hope to people around the world fighting to replace tyranny with liberty, justice, and the rule of law. During Captive Nations Week, we reaffirm our Nation's unwavering support for those who strive to be free from oppression. We condemn repressive regimes that deny people their God-given rights, including life, liberty, and the pursuit of happiness.

President Dwight D. Eisenhower first proclaimed Captive Nations Week in 1959, when freedom in the United States was a bulwark against the totalitarianism of communist regimes in Eastern Europe and elsewhere. Even today, many decades since the end of the Cold War unleashed a new era of democratic flourishing, tyrannical and coercive governments still threaten the freedom and well-being of countless individuals worldwide. They persecute people for worshiping their God, and jail people for daring to speak out and for demanding even the most basic forms of transparency and accountability. They use food distribution as a tool of social control, manipulate electoral processes, and undermine the will and spirit of their people through intimidation and fear. The United States stands with repressed people around the world and urges governments everywhere to respect the God-given rights of every individual and to embrace the establishment of representative government.

As Americans, we are privileged and blessed to live in a Nation in which our Constitution protects fundamental rights like freedom of expression, association, religion, and peaceful assembly. We will continue to advocate for those who are unjustly denied these and other rights, and stand against brutality and oppression, which violate the dignity of all people.

The Congress, by Joint Resolution approved July 17, 1959 (73 Stat. 212), has authorized and requested the President to issue a proclamation designating the third week of July of each year as “Captive Nations Week.”

NOW, THEREFORE, I, DONALD J. TRUMP, President of the United States of America, by virtue of the authority vested in me by the Constitution and the laws of the United States, do hereby proclaim July 21 through July 27, 2019, as Captive Nations Week. I call upon all Americans to reaffirm our commitment to supporting those around the world striving for liberty, justice and the rule of law.

IN WITNESS WHEREOF, I have hereunto set my hand this nineteenth day of July, in the year of our Lord two thousand nineteen, and of the Independence of the United States of America the two hundred and forty-fourth.

[FR Doc. 2019-15989

Filed 7-24-19; 11:15 am]

Billing code 3295-F9-P